DEPARTMENT OF AGRICULTURE

Forest Service

Yakus Creek Project, Clearwater National Forest, Idaho County, ID

AGENCY: Forest Service, USDA

ACTION: Notice of intent to prepare an environmental impact statement.

SUMMARY: The USDA, Forest Service, will prepare an Environmental Impact Statement (EIS) to disclose the environmental effect of timber harvest and watershed restoration activities in the Yakus Creek project area on the Lochsa Ranger District of the Clearwater National Forest. The Yakus Creek project area is located in the Yakus Creek drainage, a tributary to Lolo Creek, approximately 12 air-miles eat of the town of Kamiah, Idaho.

DATES: This project was previously scoped in February 2004, and the comments received will be included in the documentation for the EIS. A 45-day public comment period will follow the release of the draft environmental impact statement that is expected in December 2005. The final environmental impact statement is expected in May 2006.

ADDRESSES: Written comments and suggestions concerning the scope of this project should be sent to Cindy Land (clane@fs.fed.us), District Ranger, Lochsa Ranger District, Rt. 1 Box 398, Kooskia, ID 83539.

FOR FURTHER INFORMATION CONTACT: George Harbaugh (gharbaugh@fs.fed.us), Project Leader, Lochsa Ranger District. Phone: (208) 926-4274.

SUPPLEMENTARY INFORMATION: The Yakus Creek project area contains approximately 7,900 acres, of which 5,240 acres are National Forest lands and 2,660 acres are other ownership (State, timber companies, and private). The legal location is in portions of Sections 1, 2, 12, and 13, T33N, R5E; Sections 3-9, 17, and 18, T33N, R6E; Sections 25, 26, 35, and 36, T34N, R5E; and Sections 30-33, T34N, R6E, Boise Meridian, Idaho County, Idaho. The proposed actions would occur on National Forest lands and are all outside the boundaries of any inventoried roadless area or any areas considered for inclusion to the National Wilderness System as recommended by the Clearwater National Forest Plan or by any past or present legislative wilderness proposals.

Purpose and Need for Action is to: (1) Improve forest health and start the shift towards desired patch sizes by: (1) Shifting species composition from grand fir to white pine and western larch; (b) reducing tree densities in immature stands; (c) regenerating decadent mature stands; (d) regenerating stands with insect and root rot problems; (e) creating desired patches (300-500 acres) with timber harvest; and (f) connecting existing seedling/sapling stands, where possible; (2) restore watershed function to improve soil productivity and instream conditions; and (3) manage the landscape to provide for goods and services deemed important to society.

The Proposed Action would harvest timber through regeneration harvest and commercial thinning on approximately 670 acres of forestland within the Yakus Creek drainage. Regeneration harvest (520 acres) would leave approximately 20-25 trees per acre as individual trees and in groups, where feasible, to provide future snags and down woody material for wildlife habitat. Commercial thinning (150 acres) would reduce the basal area in dense timbered stands down to about 160-180 square feet. There is also an opportunity to precommercial thin approximately 1,620 acres of young stands scattered throughout the project area. Use of existing, temporary and permanent roads would be needed to access timber harvest areas. An estimated 1.8 miles of existing roads would be reconstructed in addition to 1.2 miles of new specified road construction to facilitate timber removal. An estimated 2.2 miles of temporary roads would be constructed and obliterated following completion of sale related activities. Watershed restoration activities would consist of an estimated 11.6 miles of road decommissioning, an estimated 13.7 miles of existing roads put into intermittent storage (self-maintaining), and the decompaction of approximately 190 acres of old skid trains and landings.

The Possible Alternatives the Forest Service will consider include the “no action” alternative in which none of the proposed activities would be implemented. Additional alternatives being considered examine varying levels and locations for the proposed activities to achieve the proposal's purpose and need, as well as to respond to the issues and other resource concerns.

The Responsible Official is the Forest Supervisor of the Clearwater National Forest, 12730 Highway 12, Orofino, ID 83544. The Responsible Official will decide if the proposed project will be implemented and will document the decision and reasons for the decision in a Record of Decision. That decision will be subject to Forest Service Appeal Regulations. The responsibility for preparing the DEIS and FEIS has been delegated to Cindy Lane, District Ranger, Lochsa Ranger District, Rt. 1 Box 398, Kooskia, ID 83539.

The Scoping Process was initiated with the release of a Scoping Letter on February 10, 2004. Comments received as a result of that effort will be included in the documentation for the EIS. Additional scoping will follow the release of the DEIS, expected in December 2005. This proposal also includes openings greater than 40 acres. A 60-day public review period and approval by the Regional Forester for exceeding the 40 acre limitation will occur prior to the signing of the Record of Decision. The 60-day public review period is initiated with this Notice of Intent.

Preliminary Issues that could be affected by proposal activities include: air quality; economics; grazing; heritage resources; old growth habitat; recreation access; risk of landslides; scenic quality; size of openings; snag habitat; spread of noxious weeds; threatened, endangered and sensitive species of wildlife, fish and plants; tribal treaty rights; and water quality.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 10, 2005.
Thomas K. Reilly,
Forest Supervisor.

[FR Doc. 05-16360 Filed 8-17-05; 8:45 am]

BILLING CODE 3410-11-M